DEPARTMENT OF HOMELAND SECURITY

Coast Guard

33 CFR Part 117

[CGD08-04-026]

RIN 1625-AA09

Drawbridge Operation Regulation; Inner Harbor Navigation Canal, LA

AGENCY: Coast Guard, DHS.

ACTION: Notice of temporary deviation from regulations.

SUMMARY: The Commander Eighth Coast Guard District is issuing a temporary deviation from the regulation governing the operation of the Almonaster Avenue (L & N Railroad/Old Gentilly Road) bascule span bridge across the Inner Harbor Navigation Canal, mile 2.9 at New Orleans, Orleans Parish, Louisiana. This deviation will allow the Port of New Orleans to close the bridge to navigation from 7 a.m. on Thursday, July 29, 2004 until 7 a.m. on Friday, July 30, 2004 to conduct necessary repairs on the bridge.

DATES: This temporary deviation is effective from 7 a.m. on Thursday, July 29, 2004 until 7 a.m. on Friday, July 30, 2004.

ADDRESSES: Materials referred to in this temporary deviation are available for inspection or copying at the office of the Eighth Coast Guard District, Bridge Administration Branch, Hale Boggs Federal Building, room 1313, 500 Poydras Street, New Orleans, Louisiana 70130-3310, between 7 a.m. and 3 p.m., Monday through Friday, except Federal holidays. The telephone number is (504) 589-2965. The Eighth District Bridge Administration Branch maintains the public docket for this temporary deviation.

FOR FURTHER INFORMATION CONTACT: Phil Johnson, Bridge Administration Branch, telephone (504) 589-2965.

SUPPLEMENTARY INFORMATION: The Port of New Orleans requested a temporary deviation from the normal operation of the drawbridge in order to replace a damaged link pin bushing in the inboard side of the strain arm. This bushing has been damaged as the result of numerous bridge allisions that have occurred recently. The repairs are necessary to ensure the continued operation of the drawbridge. This temporary deviation will allow the bridge to remain in the closed-to-navigation position from 7 a.m. on Thursday, July 29, 2004 until 7 a.m. on Friday, July 30, 2004. In the event of an approaching tropical storm or hurricane, prior to commencement of repairs, the work will be rescheduled and the bridge will continue to operate normally.

The bridge has a vertical clearance of one foot above high water in the closed-to-navigation position and unlimited clearance in the open-to-navigation position. Navigation on the waterway consists of tugs with tows, small ships, fishing vessels, sailing vessels, and other recreational craft. Due to prior experience, as well as coordination with waterway users, it has been determined that this closure will not have a significant effect on these vessels. No alternate routes are available. The bridge will not be able to open for emergencies.

In accordance with 33 CFR 117.35(c), this work will be performed with all due speed in order to return the bridge to normal operation as soon as possible. This deviation from the operating regulations is authorized under 33 CFR 117.35.

Dated: July 15, 2004.
Marcus Redford,
Bridge Administrator.

[FR Doc. 04-17053 Filed 7-26-04; 8:45 am]

BILLING CODE 4910-15-P